DEPARTMENT OF HOMELAND SECURITY

U.S. Customs and Border Protection

Requirement for Certificates of Export for Importations of Steel Products of the Republic of Korea

AGENCY: U.S. Customs and Border Protection, Department of Homeland Security.

ACTION: General notice.

SUMMARY: This document provides notice that importations into the United States of steel products of the Republic of Korea subject to absolute quota limits must be presented with valid and properly executed certificates of exportation.

DATES: Certificates of exportation for importations into the United States of steel products of the Republic of Korea subject to absolute quota limits are required for such products entered, or withdrawn from warehouse, for consumption on or after October 18, 2019.

FOR FURTHER INFORMATION CONTACT: Julia Peterson, Quota and Agriculture Branch, Trade Policy and Programs, (202) 384-8905, HQQUOTA@cbp.dhs.gov.

SUPPLEMENTARY INFORMATION:

Background

Absolute quotas are established by Presidential proclamations, Executive orders, and legislative enactments. See section 132.2(a) of title 19 of the Code of Federal Regulations (19 CFR 132.2(a)). On April 30, 2018, President Donald J. Trump signed Proclamation 9740 (83 FR 20683) imposing, among other things, absolute quota limits on certain steel products of the Republic of Korea, pursuant to U.S. Note 16(e), subchapter III, Chapter 99, Harmonized Tariff Schedule of the United States (HTSUS), and subheadings 9903.80.05 through 9903.80.58, HTSUS. Subsequently, on September 4, 2019, President Trump signed Proclamation 9777 (83 FR 45025), wherein clause 7 provides that where a government of a country identified in the superior text to subheadings 9903.80.05 through 9903.80.58, HTSUS, notifies the United States that it has established a mechanism for the certification of exports to the products covered by the quantitative limitations applicable to those subheadings, U.S. Customs and Border Protection (CBP) may require that importers of these products furnish relevant certification of export information in order to qualify for the treatment set forth in those subheadings. If CBP adopts such a requirement, clause 7 to Proclamation 9777 requires that CBP shall publish in the Federal Register notice of the requirement and procedures for the submission of relevant certification of export information. Moreover, clause 7 to Proclamation 9777 mandates that no article that is subject to the export certification requirement announced in such a notice may be entered for consumption, or withdrawn from warehouse for consumption, on or after the effective date specified in such a notice, except upon presentation of a valid and properly executed certification of export.

The Republic of Korea is a government of a country identified in the superior text to subheadings 9903.80.05 through 9903.80.58, HTSUS. Furthermore, the Republic of Korea has notified the United States that it has established a mechanism for the certification of exports to the products covered by the quantitative limitations applicable to these subheadings, specifically in the form of official certificates of exportation issued by the Korea Iron and Steel Association, as authorized by the Republic of Korea. This document provides notice that CBP will require valid and properly executed certificates of exportation for importations into the United States of steel products of the Republic of Korea covered by the quantitative limitations applicable to subheadings 9903.80.05 through 9903.80.58, HTSUS, that are entered, or withdrawn from warehouse, for consumption on or after October 18, 2019. The subject importations will not be released unless the entry summaries are accompanied by valid and properly executed certificates of exportation, as described in this notice.

Importers are advised that only exporters may obtain valid and properly executed certificates of exportation, which exporters may apply for online via the website for the Korea Iron and Steel Association (http://sq.kosa.or.kr/). Importers should obtain these certificates of exportation from exporters and submit them to CBP with the entry summaries filed for their importations. For entries filed through ACE, additional guidance on the submission of the certificates of export is available in a draft portion of the CBP and Trade Automated Interface Requirements (CATAIR) for entry summary filings (specifically, within the draft chapter designated as the AE CATAIR), regarding the record entitled Importer's Additional Declaration Detail (https://www.cbp.gov/trade/ace/catair).

Dated: September 11, 2019.
Brenda B. Smith,
Executive Assistant Commissioner, Office of Trade.

[FR Doc. 2019-20186 Filed 9-17-19; 8:45 am]

BILLING CODE 9111-14-P